DEPARTMENT OF THE INTERIOR

Bureau of Reclamation

Draft Environmental Impact Statement/Environmental Impact Report and Notice of Public Meeting for the Water Transfer Program for the San Joaquin River Exchange Contractors Water Authority, 2014-2038, San Joaquin Valley, CA

AGENCY: Bureau of Reclamation, Interior.

ACTION: Notice of availability and public meeting.

SUMMARY: The Bureau of Reclamation and the San Joaquin River Exchange Contractors Water Authority have made available for public review and comment the joint draft environmental impact statement/environmental impact report (Draft EIS/EIR) for the Water Transfer Program, 2014-2038.

The proposed new transfer program would provide for the transfer and/or exchange of up to 150,000 acre-feet of substitute water from the San Joaquin River Exchange Contractors Water Authority to several potential users over a 25-year timeframe (water service years 2014-2038).

DATES: Submit written comments on the Draft EIS/EIR on or before July 3, 2012.

One public meeting is scheduled with the Bureau of Reclamation and San Joaquin River Exchange Contractors Water Authority's staff. Oral or written comments will be received at this meeting regarding the project's environmental effects. The meeting will be held on Wednesday, June 13, 2012 from 5:00 p.m. to 7:00 p.m. in Los Banos, California.

ADDRESSES: Submit written comments on the Draft EIS/EIR to Mr. Brad Hubbard, Bureau of Reclamation, 2800 Cottage Way, Room 2905, Sacramento, California 95825. Email electronic comments to bhubbard@usbr.gov.

The public meeting will be held at the Miller & Lux Building, Floor 1, 830 Sixth Street, Los Banos, California 93635.

To request a compact disc of the Draft EIS/EIR, please contact Mr. Brad Hubbard as indicated above, or call 916-978-5034. The Draft EIS/EIR may be viewed at Reclamation's Web site at http://www.usbr.gov/mp/nepa/nepa_projdetails.cfm?Project_ID=9086. See Supplementary Information section for locations where copies of the Draft EIS/EIR are available for public review.

FOR FURTHER INFORMATION CONTACT: Mr. Brad Hubbard, Natural Resources Specialist, at 916-978-5204, or email at bhubbard@usbr.gov; or Ms. Joann White, San Joaquin River Exchange Contractors Water Authority, at 209-827-8616, or email at jwhite@sjrecwa.net.

SUPPLEMENTARY INFORMATION: The San Joaquin River Exchange Contractors Water Authority (Exchange Contractors) propose to make water available via tailwater recovery, water conservation, and temporary land fallowing for transfer and/or exchange of substitute water to either the state and Federal wildlife refuges, Central Valley Project (CVP) contractors for existing municipal and industrial (M&I) and/or agricultural areas, and other potential State Water Project (SWP) contractors for agricultural and/or municipal and industrial (M&I) uses, or to some combination of these users. The action would be to execute agreements for water transfers among the Bureau of Reclamation (Reclamation), Mid-Pacific Region; Central Valley Project (CVP) and State Water Project (SWP) contractors; and the Exchange Contractors for water service years 2014 to 2038.

The program would consist of the annual development and transfer of up to 150,000 acre-feet of substitute CVP water (maximum of 80,000 acre-feet of tailwater and a maximum of 20,000 acre-feet of conserved water, and a maximum of 50,000 acre-feet from land fallowing) from the Exchange Contractors to other CVP contractors, to Reclamation's Refuge Water Supply Program (RWSP) for delivery to the San Joaquin Valley wetland habitat areas (wildlife refuges), and/or SWP contractors. The purposes of the proposed twenty-five year transfer program are the transfer and/or exchange of CVP water from the Exchange Contractors to:

• The RWSP to meet water supply needs (Incremental Level 4) for San Joaquin River Basin wildlife refuges and Tulare Lake Basin wildlife areas.

• Other CVP contractors and SWP contractors to meet demands of agriculture, municipal, and industrial uses, and/or

The continuation of a program of temporary annual water transfers and/or exchanges is needed to maximize the use of limited water resources for agriculture, fish and wildlife resources, and M&I purposes with the following objectives:

• Develop supplemental water supplies from willing seller agencies within the Exchange Contractors' service area through water conservation measures/tailwater recovery and crop idling/fallowing activities consistent with agency policies.

• Assist in providing water supplies to meet the Incremental Level 4 requirements for the San Joaquin River Basin and Tulare Lake Basin wildlife refuges.

• Assist Friant Division CVP repayment contractors or water service contractors to obtain additional CVP water for the production of agricultural crops or livestock and/or M&I uses because of water supply shortages or when full contract deliveries cannot otherwise be made.

• Assist SWP (Kern County Water Agency and Santa Clara Valley Water District (SCVWD)) and other CVP agricultural service and M&I contractors (San Luis Unit, SCVWD, East Bay Municipal Utility District, Contra Costa Water District, and Pajaro Valley Water Management Agency) to obtain additional supplemental water supplies.

• Promote seasonal flexibility of deliveries to the Exchange Contractors through exchange with CVP and SWP agricultural service and M&I contractors wherein water would be delivered and then returned at a later date within the year.

Reclamation's RWSP needs additional water to provide the refuges with the increment between Level 2 and Level 4 water quantities for fish and wildlife habitat development. The Exchange Contractors propose to transfer CVP water for the production of agricultural crops or livestock and/or municipal and industrial uses because of water supply shortages or when full contract deliveries cannot otherwise be made.

The water transfers would occur largely within the San Joaquin Valley of central California but could extend to districts taking water deliveries in the North Delta. The Exchange Contractors' service area covers parts of Fresno, Madera, Merced, and Stanislaus counties. The agricultural water users that would benefit from the potential transfers are located in the counties of Stanislaus, San Joaquin, Merced, Madera, Fresno, San Benito, Santa Clara, Tulare, Kern, Kings, Contra Costa, Alameda, Monterey, and Santa Cruz counties. The wetland habitat areas that may receive the water are located in Merced, Fresno, Kings, Tulare, and Kern counties.

Some of the resources potentially affected by transfers under the proposed twenty-five year transfer program that are evaluated in the Draft EIS/EIR include: surface water including the San Joaquin River, groundwater, biological resources, land uses including agricultural lands, air quality/climate change, socioeconomics including impacts to agricultural production, and environmental justice.

Copies of the Draft EIS/EIR are available for public review at the following locations:

• Bureau of Reclamation, Regional Library, 2800 Cottage Way, Sacramento, CA 95825-1898

• Bureau of Reclamation, Denver Office Library, P.O. Box 25007, Mail Code 84-21320, Denver, CO 80225-0007

• California State Library, 914 Capitol Mall, Suite E-29, Sacramento, CA 95814-4802

• University of California, Berkeley, Water Resources Center Archives, 410 O'Brien Hall, Berkeley, CA 94720-1718

• University of California, Davis, Peter J. Shields Library, Documents Department, 100 Northwest Quad, Davis, CA 95616-5292

• California Research Bureau, California State Library, PO Box 942837, Sacramento, CA 94237-0001

• Fresno County Public Library, Government Publications, 2420 Mariposa Street Fresno, CA 93721-2204

• Merced County Library, 2100 O Street, Merced, CA 95340-3637

• Merced County Public Library, 1312 South 7th Street, Los Banos, CA 93635-4757

• Stanislaus County Library, 1500 I Street, Modesto, CA 95354

• San Francisco Public Library, Government Documents Department, 100 Larkin Street, San Francisco, CA 94102

Special Assistance for Public Meetings

If special assistance is required to participate in the public meetings, please contact Mr. Brad Hubbard at 916-978-5204, TDD 916-978-5608, or via email at bhubbard@usbr.gov. Please notify Mr. Hubbard as far in advance as possible to enable Reclamation to secure the needed services. If a request cannot be honored, the requestor will be notified. A telephone device for the hearing impaired (TDD) is available at 916-978-5608.

Public Disclosure

Before including your name, address, phone number, email address, or other personal identifying information in your comment, you should be aware that your entire comment—including your personal identifying information—may be made publicly available at any time. While you can ask us in your comment to withhold your personal identifying information from public review, we cannot guarantee that we will be able to do so.

Dated: March 5, 2012.
Pablo R. Arroyave,
Deputy Regional Director, Mid-Pacific Region.

[FR Doc. 2012-10766 Filed 5-3-12; 8:45 am]

BILLING CODE 4310-MN-P